DEPARTMENT OF ENERGY

Federal Energy Regulatory Commission

Combined Notice of Filings #1

Take notice that the Commission received the following exempt wholesale generator filings:

Docket Numbers: EG24-214-000.

Applicants: VESI 12 LLC.

Description: VESI 12 LLC submits notice of self-certification of exempt wholesale generator status.

Filed Date: 6/25/24.

Accession Number: 20240625-5060.

Comment Date: 5 p.m. ET 7/16/24.

Take notice that the Commission received the following electric rate filings:

Docket Numbers: ER10-1585-025; ER10-1594-025; ER10-1617-025; ER10-1623-008; ER10-1628-025; ER10-1632-027; ER12-60-027; ER16-733-016; ER16-1148-016; ER20-2602-003.

Applicants: Nobles 2 Power Partners, LLC, Tenaska Energía de Mexico, S. de R. L. de C.V., LQA, LLC, Tenaska Power Management, LLC, Tenaska Power Services Co., Texas Electric Marketing, LLC, Tenaska Frontier Partners, Ltd., New Mexico Electric Marketing, LLC, California Electric Marketing, LLC, Alabama Electric Marketing, LLC.

Description: Triennial market power analysis for [Central/Southwest Power Pool Inc./Northeast/Northwest/Southeast/Southwest] Region of Alabama Electric Marketing, LLC, et al.

Filed Date: 6/21/24.

Accession Number: 20240621-5221.

Comment Date: 5 p.m. ET 8/20/24.

Docket Numbers: ER24-1717-003.

Applicants: PJM Interconnection, L.L.C.

Description: Tariff Amendment: Amendment of Amended ISA, SA No. 4401; AA1-095 in Docket ER24-1717 to be effective 6/10/2024.

Filed Date: 6/21/24.

Accession Number: 20240621-5176.

Comment Date: 5 p.m. ET 7/1/24.

Docket Numbers: ER24-2356-000.

Applicants: NSTAR Electric Company.

Description: Tariff Amendment: Cancellation—Medway Grid, LLC—Engineering, Design and Procurement Agreement to be effective 6/26/2024.

Filed Date: 6/25/24.

Accession Number: 20240625-5007.

Comment Date: 5 p.m. ET 7/16/24.

Docket Numbers: ER24-2357-000.

Applicants: Star Energy Partners, LLC.

Description: Notice of cancellation of market-based rates tariff of Star Enertgy Partners LLC.

Filed Date: 6/21/24.

Accession Number: 20240621-5220.

Comment Date: 5 p.m. ET 7/12/24.

Docket Numbers: ER24-2358-000.

Applicants: Southwest Power Pool, Inc.

Description: § 205(d) Rate Filing: 2066R13 Evergy Kansas Central, Inc. NITSA NOA to be effective 9/1/2024.

Filed Date: 6/25/24.

Accession Number: 20240625-5064.

Comment Date: 5 p.m. ET 7/16/24.

Docket Numbers: ER24-2359-000.

Applicants: Southwest Power Pool, Inc.

Description: § 205(d) Rate Filing: 2491R12 Evergy Kansas Central, Inc. NITSA NOA to be effective 9/1/2024.

Filed Date: 6/25/24.

Accession Number: 20240625-5070.

Comment Date: 5 p.m. ET 7/16/24.

Docket Numbers: ER24-2360-000.

Applicants: Tri-State Generation and Transmission Association, Inc.

Description: § 205(d) Rate Filing: Certificate of Concurrence for Agreement with PNM for Phase Shifter Transformer to be effective 5/10/2024.

Filed Date: 6/25/24.

Accession Number: 20240625-5071.

Comment Date: 5 p.m. ET 7/16/24.

Docket Numbers: ER24-2361-000.

Applicants: Southwest Power Pool, Inc.

Description: § 205(d) Rate Filing: 3620R6 Kansas City Board of Public Utilities NITSA NOA to be effective 9/1/2024.

Filed Date: 6/25/24.

Accession Number: 20240625-5078.

Comment Date: 5 p.m. ET 7/16/24.

Docket Numbers: ER24-2362-000.

Applicants: Southwest Power Pool, Inc.

Description: § 205(d) Rate Filing: 2415R19 Kansas Municipal Energy Agency NITSA and NOA to be effective 9/1/2024.

Filed Date: 6/25/24.

Accession Number: 20240625-5085.

Comment Date: 5 p.m. ET 7/16/24.

Docket Numbers: ER24-2363-000.

Applicants: Southwest Power Pool, Inc.

Description: § 205(d) Rate Filing: 2562R14 Kansas Municipal Energy Agency NITSA and NOA to be effective 9/1/2024.

Filed Date: 6/25/24.

Accession Number: 20240625-5087.

Comment Date: 5 p.m. ET 7/16/24.

Docket Numbers: ER24-2364-000.

Applicants: Southwest Power Pool, Inc.

Description: § 205(d) Rate Filing: 2900R24 KMEA NITSA NOA to be effective 9/1/2024.

Filed Date: 6/25/24.

Accession Number: 20240625-5091.

Comment Date: 5 p.m. ET 7/16/24.

Docket Numbers: ER24-2365-000.

Applicants: Southwest Power Pool, Inc.

Description: § 205(d) Rate Filing: 3675R5 Doniphan Electric Cooperative Assn, Inc. NITSA NOA to be effective 9/1/2024.

Filed Date: 6/25/24.

Accession Number: 20240625-5093.

Comment Date: 5 p.m. ET 7/16/24.

Docket Numbers: ER24-2366-000.

Applicants: Midcontinent Independent System Operator, Inc., Otter Tail Power Company.

Description: § 205(d) Rate Filing: Midcontinent Independent System Operator, Inc. submits tariff filing per 35.13(a)(2)(iii: 2024-06-25_SA 4298 OTP-NSP T-TIA (Erie Substation) to be effective 6/19/2024.

Filed Date: 6/25/24.

Accession Number: 20240625-5106.

Comment Date: 5 p.m. ET 7/16/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 25, 2024.
Debbie-Anne A. Reese,
Acting Secretary.

[FR Doc. 2024-14512 Filed 7-1-24; 8:45 am]

BILLING CODE 6717-01-P